DEPARTMENT OF LABOR

Employment and Training Administration

[NAFTA-4393]

Eel River Sawmills, Inc., Fortuna, CA; Notice of Termination of Investigation

Pursuant to Title V of the North American Free Trade Agreement Implementation Act (P.L. 103-182) concerning transitional adjustment assistance (NAFTA-TAA), an investigation was initiated on December 14, 2000 in response to a petition which was filed by the company on behalf of workers at Eel River Sawmills, Inc., Fortuna, California.

The company has requested that the petition be withdrawn. Consequently, further investigation in this case would serve no purpose, and the investigation has been terminated.

Signed in Washington, D.C. this 5th day of January, 2001.
Linda Poole,
Certifying Officer, Division of Trade Adjustment Assistance.

[FR Doc. 01-3289 Filed 2-7-01; 8:45 am]

BILLING CODE 4510-30-M